DEPARTMENT OF LABOR

Employment And Training Administration

Agency Information Collection Activities; Comment Request; Overpayment Detection and Recovery Activities

ACTION: Notice.

SUMMARY: The Department of Labor's (DOL) Employment and Training Administration (ETA) is soliciting comments concerning a proposed extension for the authority to conduct the information collection request (ICR) titled, “Overpayment Detection and Recovery Activities.” This comment request is part of continuing Departmental efforts to reduce paperwork and respondent burden in accordance with the Paperwork Reduction Act of 1995 (PRA).

DATES: Consideration will be given to all written comments received by February 27, 2023.

ADDRESSES: A copy of this ICR with applicable supporting documentation, including a description of the likely respondents, proposed frequency of response, and estimated total burden, may be obtained free by contacting Ericka Parker by telephone at 202-693-3208 (this is not a toll-free number), TTY 1-877-889-5627 (this is not a toll-free number), or by email at parker.ericka@dol.gov.

Submit written comments about, or requests for a copy of, this ICR by mail or courier to the U.S. Department of Labor, U.S. Department of Labor, Employment and Training Administration, Office of Unemployment Insurance, 200 Constitution Avenue NW, Frances Perkins Bldg. Room S-4519, Washington, DC 20210; by email at: parker.ericka@dol.gov; or by fax at 202-693-3975.

FOR FURTHER INFORMATION CONTACT: Rhonda Cowie by telephone at 202-693-3821 (this is not a toll-free number) or by email: cowie.rhonda.m@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 303(a)(1) of the Social Security Act (SSA) requires a state's unemployment insurance UI law to include provisions for:

“Such methods of administration . . . as are found by the Secretary of Labor to be reasonably calculated to insure full payment of unemployment compensation when due . . .”

Section 303(a)(5) of the SSA further requires a state's UI law to include provisions for:

“Expenditure of all money withdrawn from an unemployment fund of such State, in the payment of unemployment compensation . . .”

Section 3304(a)(4) of the Internal Revenue Code (IRC) of 1954 provides that:

“all money withdrawn from the unemployment fund of the State shall be used solely in the payment of unemployment compensation . . .”

The Secretary of Labor has interpreted the above sections of federal law in Section 7511, Part V, of the Employment Security Manual to further require a state's UI law to include provisions for such methods of administration as are, within reason, calculated to: (1) detect benefits paid through error by the State Workforce Agency (SWA) or through willful misrepresentation or error by the claimant or others; (2) deter claimants from obtaining benefits through willful misrepresentation; and (3) recover benefits overpaid. The Overpayment Detection and Recovery Activities report, referred to as the ETA 227, is used to determine whether SWAs meet these requirements.

The ETA 227 contains data on the number and amounts of fraud and non-fraud overpayments established, the methods by which overpayments were detected, the amounts and methods by which overpayments were collected, the amounts of overpayments waived and written off, the accounts receivable for overpayments outstanding, and data on criminal/civil actions. Each of the 53 SWAs gather this data and report it to DOL following the end of each calendar quarter. The overall effectiveness of SWAs' UI integrity efforts can be determined by examining and analyzing the data. SWA's also use these data as a management tool for effective UI program administration.

Section 303(a)(1) of the Social Security Act (SSA), Section 303(a)(5) of the SSA, Section 3304(a)(4) of the Internal Revenue Code (IRC) of 1954, and Section 7511, Part V, of the Employment Security Manual, authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Overpayment Detection and Recovery Activities, OMB control number 1205-0187.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Overpayment Detection and Recovery Activities.

Form: ETA 227.

OMB Control Number: 1205-0187.

Affected Public: State Workforce Agencies.

Estimated Number of Respondents: 53.

Frequency: Quarterly.

Total Estimated Annual Responses: 212.

Estimated Average Time per Response: 14 hours.

Estimated Total Annual Burden Hours: 2,968 hours.

Total Estimated Annual Other Cost Burden: $0.

Brent Parton,
Acting Assistant Secretary for Employment and Training, Labor.

[FR Doc. 2022-28345 Filed 12-28-22; 8:45 am]

BILLING CODE 4510-FN-P